DEPARTMENT OF ENERGY

Energy Efficiency and Renewable Energy

Proposed Agency Information Collection

AGENCY: Energy Efficiency and Renewable Energy, U.S. Department of Energy.

ACTION: Notice and request for OMB review and comment.

SUMMARY: The Department of Energy (DOE) has submitted to the Office of Management and Budget (OMB) for clearance, a proposal for collection of information under the provisions of the Paperwork Reduction Act of 1995. The proposed collection will allow Department of Energy (DOE) to gather utility bill data in order to manage energy efficiency programs in the Office of Weatherization and Intergovernmental Programs (OWIP) effectively. The utility billing data will help DOE determine the impacts and success of these programs in achieving savings, creating jobs, and expanding retrofit markets.

DATES: Comments regarding this collection must be received on or before August 1, 2011. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503. And to Keith Dennis, EE-2K, U.S. Department of Energy, 1000 Independence Ave., SW., Washington, DC 20585, Fax#: (202) 287-7145, Keith.Dennis@ee.doe.gov.

FOR FURTHER INFORMATION CONTACT: Keith Dennis, EE-2K, U.S. Department of Energy, 1000 Independence Ave., SW., Washington, DC 20585, Fax#: (202) 287-7145, Keith.Dennis@ee.doe.gov.

SUPPLEMENTARY INFORMATION: This information collection request contains: (1) OMB No. 1910-5156; (2) Information Collection Request Title: Utility Billing; (3) Type of Request: Extension of Emergency ICR; (4) Purpose: The Authorization form will allow an evaluator specified by DOE to obtain grantee project site's energy usage and cost (electricity and natural gas). The purpose of the information collection is to estimate the direct impacts on energy and cost savings of energy efficiency programs; (5) Annual Estimated Number of Respondents: 60,629; (6) Annual Estimated Number of Total Responses: 60,629; (7) Annual Estimated Number of Burden Hours: 29,998; (8) Annual Estimated Reporting and Recordkeeping Cost Burden: $41,085.

Statutory Authority: Title IV of the Energy Conservation and Production Act of 1976 (42 U.S.C. 6861 et seq.), as amended, authorizes the DOE to administer the Weatherization Assistance Program (WAP). Title III of the Energy Policy and Conservation Act of 1975, (42 U.S.C. 6321 et seq.) as amended, authorizes DOE to administer the State Energy Program (SEP). Title V, Subtitle E of the Energy Independence and Security Act of 2007 (42 U.S.C. 17151 et seq.) authorizes DOE to administer the Energy Efficiency and Conservation Block Grant Program (EECBG).

Issued in Washington, DC on June 28, 2011.
LeAnn M. Oliver,
Program Manager, Office of Weatherization and Intergovernmental Programs, Energy Efficiency and Renewable Energy.

[FR Doc. 2011-16583 Filed 6-29-11; 8:45 am]

BILLING CODE 6450-01-P